LIBRARY OF CONGRESS

Copyright Office

37 CFR Part 201

[PA 2004-2]

Inspection and Copying of Records

AGENCY: Copyright Office, Library of Congress.

ACTION: Final rule; technical amendment.

SUMMARY: This document makes a non-substantive, technical amendment to a Copyright Office regulation.

DATES: This rule is effective January 5, 2005.

FOR FURTHER INFORMATION CONTACT: Sandra L. Jones, Writer-Editor, or Marilyn J. Kretsinger, Associate General Counsel, Copyright GC/I&R, PO Box 70400, Southwest Station, Washington, DC 20024. Telephone: (202) 707-8380. Telefax: (202) 707-8366.

SUPPLEMENTARY INFORMATION: This rule makes a technical amendment to 37 CFR 201 to remove the hours of direct public use of computers intended to access the automated equivalent of portions of the in-process files in the Records Maintenance Unit of the Copyright Office. New hours of 9:00 a.m. to 4:30 p.m. are being implemented; but for administrative reasons, the Office decided not to include the time schedule as part of the regulation.

The reason for the change is current staff resources. A very small staff, working on a fixed schedule of 8:30 a.m. to 5:00 p.m., covers this public area. Reducing the hours of public access, gives the staff needed time at the beginning and end of the day to open up and close down the area for the public. The new hours will both provide the staff with the time necessary to complete these tasks without working beyond their normal duty schedule and afford the public a sufficient amount of time to use the files.

List of Subjects in 37 CFR Part 201

Copyright.

Final Rule

For the reasons set forth in the preamble, 37 CFR part 201 is amended as follows:

PART 201-GENERAL PROVISIONS

1. The authority citation for Part 201 continues to read as follows:

Authority: 17 U.S.C. 702

2. Section 201.2(b)(2) is amended by removing “8:30 a.m. to 5:00,”.

Dated: December 1, 2004
Marilyn J. Kretsinger,
Associate General Counsel.

[FR Doc. 04-26740 Filed 12-3-04; 8:45 am]

BILLING CODE 1410-30-S